NATIONAL COUNCIL ON DISABILITY

Sunshine Act Meetings

TIME AND DATES: The Members of the National Council on Disability (NCD) will hold a quarterly business meeting and community forum on Monday, July 15, 2019, 8:30 a.m.-5:30 p.m., Central Daylight Time), in Chicago, Illinois. Registration is not required.

PLACE: This meeting will occur at Access Living of Metropolitan Chicago, 115 W Chicago Ave., Chicago, Illinois 60654. Interested parties may join the meeting in person at the meeting location or may join by phone in a listening-only capacity (other than the period allotted for public comment noted below) using the following call-in information: Teleconference number: 1-866-556-2429; Conference ID: 5096693; Conference Title: NCD Meeting; Host Name: Neil Romano. In the event of teleconference disruption or failure, attendees can follow the meeting by accessing the Communication Access Realtime Translation (CART) link provided. CART is text-only translation that occurs real time during the meeting and is not an exact transcript.

MATTERS TO BE CONSIDERED: The Council will receive agency updates on policy projects, finance, governance, and other business. Following agency updates, the Council will receive panel presentations on complex rehabilitation acquisition; air transportation; annual required ethics training; a panel presentation on communication access; and a public comment session. Following unfinished business, the meeting will adjourn, to be followed by a public reception, providing attendees an opportunity to talk with presidentially and congressionally appointed Council Members and full-time professional staff from the National Council on Disability. Following the reception, an information session on Achieving A Better Life Experience (ABLE) accounts will occur.

AGENDA: The times provided below are approximations for when each agenda item is anticipated to be discussed (all times Central):

Monday, July 15

8:30 a.m.-8:35 a.m.—Welcome and Introductions

8:35 a.m.-8:55 a.m.—Welcome from Chicago

8:55 a.m.-9:55 a.m.—Executive Reports

9:55 a.m.-10:10 a.m.—Break

10:10 a.m.-11:40 a.m.—Complex Rehabilitation Acquisition Panel

11:40 a.m.-1:00 p.m.—Lunch (on your own)

1:00 p.m.-2:00 p.m.—Air Transportation Panel

2:00 p.m.-2:15 p.m.—Break

2:15 p.m.-3:15 p.m.—Annual Ethics Training

3:15 p.m.-4:45 p.m.—Communication Access Panel

4:45 p.m.-5:15 p.m.—Public Comment

5:15 p.m.-5:30 p.m.—Unfinished Business

5:30 p.m. Adjourn

5:30 p.m.-6:30 p.m.—Reception

6:30 p.m.-7:30 p.m.—Achieving a Better Life Experience (ABLE) Information Session

Come learn all about ABLE accounts and the Illinois ABLE program! ABLE accounts allow individuals with disabilities the opportunity to save and invest money without losing eligibility for certain public benefits programs, like Medicaid, Social Security, and Section 8 housing. Earnings in ABLE accounts are not subject to federal income tax, so long as funds are spent on qualified disability expenses. Deposits can be invested in different options chosen by the participant. While participants can still withdraw and spend money as needed, an ABLE account also allows money to grow for when it is needed for disability expenses.

PUBLIC COMMENT: Your participation during the public comment period provides an opportunity for us to hear from you—individuals, businesses, providers, educators, parents and advocates. Your comments are important in bringing attention to the issues in your community. Priority will be given to in-person attendees. Each person will be given 3 minutes to present comment. If you are presenting as a group and prefer to choose a spokesperson, your group representative will be given 6 minutes to provide comment. Any individual interested in providing public comment is asked to register their intent to provide comment in advance by sending an email to PublicComment@ncd.gov with the subject line “Public Comment” with your name, organization, state, and topic of comment included in the body of your email. Full-length written public comments may also be sent to that email address. To ensure your comments are accurately reflected and become part of the public record, NCD requests electronic submission prior to Friday, July 12, 2019, or immediately after the meeting to PublicComment@ncd.gov.

CONTACT PERSON: Anne Sommers, NCD, 1331 F Street NW, Suite 850, Washington, DC 20004; 202-272-2004 (V), 202-272-2074 (TTY), or asommers@ncd.gov.

ACCOMMODATIONS: To ensure appropriate accommodations are provided, please send an email to Anthony Simpson at asimpson.cntr@ncd.gov no later than July 12, indicating “Accommodations” in the subject line. An assistive listening system, computer assisted real-time transcription, and sign language interpreters will be available. A CART streamtext link has been arranged for this meeting. The web link to access CART (in English) on Monday, July 15, 2019 is: http://www.streamtext.net/player?event=NCD-QUARTERLY.

To help reduce exposure to fragrances for those with multiple chemical sensitivities, NCD requests that all those attending the meeting in person refrain from wearing scented personal care products such as perfumes, hairsprays, and deodorants. Flash photography and video documentation may occur during the meeting. Please alert staff if you are affected by photo sensitivity. Attendance at the meeting indicates consent to be photographed and recorded for NCD public affairs activities.

Due to last-minute confirmations or cancellations, NCD may substitute agenda items without advance public notice.

Dated: June 26, 2019.
Sharon M. Lisa Grubb,
Executive Director.

[FR Doc. 2019-14040 Filed 6-26-19; 4:15 pm]

BILLING CODE 8421-02-P